SMALL BUSINESS ADMINISTRATION

[Disaster Declaration #21119 and #21120; NEBRASKA Disaster Number NE-20011]

Presidential Declaration of a Major Disaster for Public Assistance Only for the State of Nebraska

AGENCY: U.S. Small Business Administration.

ACTION: Notice.

SUMMARY: This is a Notice of the Presidential declaration of a major disaster for Public Assistance Only for the State of Nebraska (FEMA-4868-DR), dated May 21, 2025.

Incident: Severe Winter Storm and Straight-line Winds.

DATES: Issued on May 21, 2025.

Incident Period: March 18, 2025, through March 19, 2025.

Physical Loan Application Deadline Date: July 22, 2025.

Economic Injury (EIDL) Loan Application Deadline Date: February 23, 2026.

ADDRESSES: Visit the MySBA Loan Portal at https://lending.sba.gov to apply for a disaster assistance loan.

FOR FURTHER INFORMATION CONTACT: Sharon Henderson, Office of Disaster Recovery & Resilience, U.S. Small Business Administration, 409 3rd Street SW, Suite 6050, Washington, DC 20416, (202) 205-6734.

SUPPLEMENTARY INFORMATION: Notice is hereby given that as a result of the President's major disaster declaration on May 21, 2025, Private Non-Profit organizations that provide essential services of a governmental nature may file disaster loan applications online using the MySBA Loan Portal https://lending.sba.gov or other locally announced locations. Please contact the SBA disaster assistance customer service center by email at disastercustomerservice@sba.gov or by phone at 1-800-659-2955 for further assistance.

The following areas have been determined to be adversely affected by the disaster:

Primary Counties: Boone, Burt, Butler, Cass, Clay, Colfax, Cuming, Dodge, Douglas, Fillmore, Hamilton, Jefferson, Johnson, Lancaster, Nuckolls, Otoe, Platte, Polk, Saline, Sarpy, Saunders, Seward, Thayer, Thurston, Washington, Webster, York.

The Interest Rates are:

| Percent
For Physical Damage:
Non-Profit Organizations with Credit Available Elsewhere | 3.625
Non-Profit Organizations without Credit Available Elsewhere | 3.625
For Economic Injury:
Non-Profit Organizations without Credit Available Elsewhere | 3.625

The number assigned to this disaster for physical damage is 21119B and for economic injury is 211200.

(Catalog of Federal Domestic Assistance Number 59008)

James Stallings,
Associate Administrator, Office of Disaster Recovery & Resilience.

[FR Doc. 2025-10708 Filed 6-11-25; 8:45 am]

BILLING CODE 8026-09-P